DEPARTMENT OF ENERGY

Federal Energy Regulatory Commission

Combined Notice of Filings

Take notice that the Commission has received the following Natural Gas Pipeline Rate and Refund Report filings:

Filings Instituting Proceedings

Docket Numbers: RP19-116-001.

Applicants: DTE Midstream Appalachia, LLC.

Description: Compliance filing Compliance Filing—Non-Redacted Transportation Service Agreement to be effective 12/18/2018.

Filed Date: 2/11/19.

Accession Number: 20190211-5176.

Comments Due: 5 p.m. ET 2/25/19.

Docket Numbers: RP19-647-000.

Applicants: Trunkline Gas Company, LLC.

Description: § 4(d) Rate Filing: Housekeeping Filing on 2-11-19 to be effective 3/14/2019.

Filed Date: 2/11/19.

Accession Number: 20190211-5033.

Comments Due: 5 p.m. ET 2/25/19.

Docket Numbers: RP19-648-000.

Applicants: Trunkline Gas Company, LLC.

Description: § 4(d) Rate Filing: Housekeeping Filing—Orig. Vol. 1-A on 2-11-19 to be effective 3/14/2019.

Filed Date: 2/11/19.

Accession Number: 20190211-5034.

Comments Due: 5 p.m. ET 2/25/19.

Docket Numbers: RP19-649-000.

Applicants: Panhandle Eastern Pipe Line Company, LP.

Description: § 4(d) Rate Filing: Housekeeping Filing on 2-11-19 to be effective 3/14/2019.

Filed Date: 2/11/19.

Accession Number: 20190211-5035.

Comments Due: 5 p.m. ET 2/25/19.

Docket Numbers: RP19-650-000.

Applicants: Southwest Gas Storage Company.

Description: § 4(d) Rate Filing: Housekeeping Filing on 2-11-19 to be effective 2/11/2019.

Filed Date: 2/11/19.

Accession Number: 20190211-5036.

Comments Due: 5 p.m. ET 2/25/19.

Docket Numbers: RP19-651-000.

Applicants: Viking Gas Transmission Company.

Description: § 4(d) Rate Filing: Gas Quality to be effective 3/14/2019.

Filed Date: 2/11/19.

Accession Number: 20190211-5093.

Comments Due: 5 p.m. ET 2/25/19.

Docket Numbers: RP19-652-000.

Applicants: Great Lakes Gas Transmission Limited Partnership.

Description: § 4(d) Rate Filing: FSA Pressure Commitment & TCPlus Cleanup to be effective 3/13/2019.

Filed Date: 2/11/19.

Accession Number: 20190211-5177.

Comments Due: 5 p.m. ET 2/25/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 12, 2019.
Nathaniel J. Davis, Sr.,
Deputy Secretary.

[FR Doc. 2019-02637 Filed 2-15-19; 8:45 am]

BILLING CODE 6717-01-P